DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Native Hawaiian Health Scholarship Program.

Evaluation: Surveys of Current Scholars, Alumni Scholars, and Site Administrators (NEW).

The Bureau of Primary Health Care (BPHC), Health Resources and Services Administration (HRSA), is planning to conduct mail surveys of the Native Hawaiian Health Scholarship Program (NHHSP). The NHHSP provides Federal financial support for Native Hawaiian students of health professions who are needed to serve Native Hawaiian people in the State of Hawaii. The purpose of the program is to increase the supply of health professionals serving Native Hawaiian people in Hawaii. The program provides assistance to Native Hawaiians for training in health professions in exchange for service in a federally designated health professional shortage area in Hawaii.

The purpose of these surveys is to determine the effectiveness of the NHHSP in various phases of operation: placement, service, and retention. The project also aims to evaluate the impact of the NHHSP providers on the site they serve and evaluate the NHHSP scholars' career trajectories. Data from these surveys will provide information about the sociodemographic characteristics of the scholars, health care services provided, reasons for seeking scholarship, and satisfaction with experience. Survey questions include professional employment history, site characteristics, practice setting, compensation and benefits, as well as student and mentor experiences. These data will be useful to the program and will enable HRSA to provide data required by Congress under the Government Performance and Results Act of 1993.

The estimated burden is as follows:

Survey | Number of respondents | Respondents per respondent | Hours per response | Total burden hours
Current scholars | 73 | 1 | 1 | 73
Alumni scholars | 25 | 1 | 1 | 25
Site administrators | 40 | 1 | 1 | 40
Total | 138 |  |  | 138

Send comments to Susan G. Queen, Ph.D., HRSA Reports Clearance Officer, Room 14-22, Parklawn Building, 5600 Fishers Lane, Rockville, MD 20857. Written comments should be received within 60 days of this notice.

Dated: October 3, 2001.
Jane M. Harrison,
Director, Division of Policy Review and Coordination.

[FR Doc. 01-25356 Filed 10-9-01; 8:45 am]

BILLING CODE 4165-15-P